DEPARTMENT OF DEFENSE

Department of the Air Force

[Docket ID: USAF-2011-0006]

Privacy Act of 1974; System of Records

AGENCY: Department of the Air Force, DoD.

ACTION: Notice to alter a system of records.

SUMMARY: The Department of the Air Force proposes to alter a system of records to its inventory of record systems subject to the Privacy Act of 1974 (5 U.S.C. 552a), as amended.

DATES: This proposed action will be effective without further notice on March 31, 2011 unless comments are received which result in a contrary determination.

ADDRESSES: You may submit comments, identified by dock number and RIN number and title, by any of the following methods:

• Federal Rulemaking Portal: http://www.regulations.gov. Follow the instructions for submitting comments.

• Mail: Federal Docket Management System Office, 1160 Defense Pentagon, Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Charles J. Shedrick, 703-696-6488, or Department of the Air Force Privacy Office, Air Force Privacy Act Office, Office of Warfighting Integration and Chief Information Officer, ATTN: SAF/CIO A6, 1800 Air Force Pentagon, Washington, DC 20330-1800.

SUPPLEMENTARY INFORMATION: The Department of the Air Force's notices for systems of records subject to the Privacy Act of 1974 (5 U.S.C. 552a), as amended, have been published in the Federal Register and are available from the FOR FURTHER INFORMATION CONTACT address above.

The proposed systems reports, as required by 5 U.S.C. 552a(r) of the Privacy Act, were submitted on (DPCLO enter date submitted) to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: February 17, 2011.
Morgan F. Park,
Alternate OSD Federal Register Liaison Officer, Department of Defense.

F036 AF PC I

System name:

Incoming Clearance Records (June 11, 1997, 62 FR 31793).

Changes:

* * * * *

System Location:

Delete entry and replace with “Military Processing Sections at Air Force installations. Official mailing addresses are published as an appendix to the Air Force's compilation of systems of records notices.”

* * * * *

Categories of records in the system:

Delete entry and replace with “Records contain individual's name, Social Security Number (SSN), home of record, member's selected separation or retirement location other than home of record, home address, character of service: honorable, general/under honorable conditions, under other than honorable conditions, bad conduct, uncharacterized, Certificate of Release or Discharge from Active Duty, Correction to Certificate of Release or Discharge from Active Duty and retirement/separation notification, orders, relocation in-processing documents received by the processing unit prior to member's arrival.”

Authority for maintenance of the system:

Delete entry and replace with “10 U.S.C. 8013, Secretary of the Air Force; 10 U.S.C. 8032, The Air Staff: general duties; Air Force Instruction 36-2102, Base-Level Relocation Procedures; and E.O. 9397 (SSN), as amended.”

* * * * *

Routine uses of records maintained in the system, including categories of users and the purposes of such uses:

Delete and replace with “In addition to those disclosures generally permitted under 5 U.S.C. 552a(b) of the Privacy Act of 1974, these records contained therein may be specifically disclosed outside the DoD as a routine use pursuant to 5 U.S.C. 552a(b)(3) as follows:

The DoD `Blanket Routine Uses' published at the beginning of the Air Force's compilation of systems of records notices apply to this system.”

* * * * *

Storage:

Delete entry and replace with “Maintained in binders/cabinets.

Retrievability:

Delete entry and replace with “Retrieved by name and/or Social Security Number (SSN).”

Safeguards:

Delete entry and replace with “Records are accessed by custodian of the records and by person(s) responsible for servicing the record in performance of their official duties who are properly screened and cleared for need-to-know. Records are stored in locked cabinets or rooms.”

Retention and Disposal:

Delete entry and replace with “Records are retained 3 months after reporting, and then destroyed by tearing into small bits, pulping, shredding, burning, or macerating.”

System manager(s) and address:

Delete entry and replace with “Headquarters Air Force Personnel Center, Total Service Center Directorate Field Activities Branch (HQ AFPC/DPTSF), 550 C Street West, Suite 6, Randolph Air Force Base, TX 78150-4737.”

Notification procedures:

Delete entry and replace with “Individuals seeking to determine whether information about themselves is contained in this system should address written inquiries to or visit the Headquarters Air Force Personnel Center, Total Service Center Directorate Field Activities Branch (HQ AFPC/DPTSF), 550 C Street West, Suite 6, Randolph Air Force Base, TX 78150-4737.

For verification purposes, individuals should provide their full name, Social Security Number (SSN), any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system of records should address written inquiries to or visit the Headquarters Air Force Personnel Center, Total Service Center Directorate Field Activities Branch (HQ AFPC/DPTSF), 550 C Street West, Suite 6, Randolph Air Force Base, TX 78150-4737.

For verification purposes, individuals should provide their full name, Social Security Number (SSN), any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Contesting record procedures:

Delete entry and replace with “The Air Force rules for accessing records, and for contesting contents and appealing initial agency determinations are published in Air Force Instruction 33-332, Privacy Act Program; CFR part 806b; or may be obtained from the system manager.”

Record source categories:

Delete entry and replace with “Special Orders and information extracted from Personnel Data System (automated record system) and Unit Personnel Record Group from Military Personnel Record System.”

* * * * *

F036 AF PC I

System name:

Incoming Clearance Records.

System location:

Military Processing Sections at Air Force installations. Official mailing addresses are published as an appendix to the Air Force's compilation of systems of records notices.

Categories of individuals covered by the system:

Record is established for each Active Duty Air Force member projected for arrival at a new duty location.

Categories of records in the system:

Records contain individual's name, Social Security Number (SSN), home of record, member's selected separation or retirement location other than home of record, home address, character of service: honorable, general/under honorable conditions, under other than honorable conditions, bad conduct, uncharacterized, Certificate of Release or Discharge from Active Duty, Correction to Certificate of Release or Discharge from Active Duty and retirement/separation notification, orders, relocation in-processing documents received by the processing unit prior to member's arrival.

Authority for maintenance of the system:

10 U.S.C. 8013, Secretary of the Air Force; 10 U.S.C. 8032, The Air Staff: general duties; Air Force Instruction 36-2102, Base-Level Relocation Procedures; and E.O. 9397 (SSN), as amended.

Purpose(s):

To provide a central location for retaining documents received prior to a member's physical arrival at joining installation of assignment.

Routine uses of records maintained in the system, including categories of users and the purposes of such uses:

In addition to those disclosures generally permitted under 5 U.S.C. 552a(b) of the Privacy Act of 1974, these records contained therein may be specifically disclosed outside the DoD as a routine use pursuant to 5 U.S.C. 552a(b)(3) as follows:

The DoD `Blanket Routine Uses' published at the beginning of the Air Force's compilation of systems of records notices apply to this system.

Policies and practices for storing, retrieving, accessing, retaining, and disposing of records in the system:

Storage:

Maintained in binders/cabinets.

Retrievability:

Retrieved by name and/or Social Security Number (SSN).

Safeguards:

Records are accessed by custodian of the records and by person(s) responsible for servicing the records in performance of their official duties who are properly screened and cleared for need-to-know. Records are stored in locked cabinets or rooms.

Retention and disposal:

Records are retained 3 months after reporting, and then destroyed by tearing into small bits, pulping, shredding, burning, or macerating.

System manager(s) and address:

Headquarters Air Force Personnel Center, Total Service Center Directorate Field Activities Branch (HQ AFPC/DPTSF), 550 C Street West, Suite 6, Randolph Air Force Base, TX 78150-4737.

Notification procedure:

Individuals seeking to determine whether information about themselves is contained in this system should address written inquiries to or visit the Headquarters Air Force Personnel Center, Total Service Center Directorate Field Activities Branch (HQ AFPC/DPTSF), 550 C Street West, Suite 6, Randolph Air Force Base, TX 78150-4737.

For verification purposes, individuals should provide their full name, Social Security Number (SSN), any details, which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system of records should address written inquiries to or visit the Headquarters Air Force Personnel Center, Total Service Center Directorate Field Activities Branch (HQ AFPC/DPTSF), 550 C Street West, Suite 6, Randolph Air Force Base, TX 78150-4737.

For verification purposes, individuals should provide their full name, Social Security Number (SSN), any details, which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Air Force rules for accessing records, and for contesting contents and appealing initial agency determinations are published in Air Force Instruction 33-332, Privacy Act Program; CFR part 806b; or may be obtained from the system manager.

Record source categories:

Special Orders and information extracted from Personnel Data System (automated record system) and Unit Personnel Record Group from Military Personnel Record System.

Exemptions claimed for the system:

None.

[FR Doc. 2011-4435 Filed 2-28-11; 8:45 am]

BILLING CODE 5001-06-P